DEPARTMENT OF HEALTH AND HUMAN SERVICES

Centers for Disease Control and Prevention

Notice of Award of a Single-Source Cooperative Agreement To Fund the Sierra Leone Ministry of Health and Sanitation; Cancellation

AGENCY: Centers for Disease Control and Prevention (CDC), Department of Health and Human Services (HHS).

ACTION: Notice.

SUMMARY: The Centers for Disease Control and Prevention (CDC), located within the Department of Health and Human Services (HHS), announces the award of approximately $450,000 for Year 1 of funding to the Sierra Leone (SL) Ministry of Health and Sanitation.

DATES: The notice of award was cancelled on June 1, 2022.

FOR FURTHER INFORMATION CONTACT: Trong Ao, Center for Global Health, Centers for Disease Control and Prevention, CDC Ghana Office, US Embassy, 24 Fourth Circular Road Cantonments, Accra, Ghana, Telephone: 800-232-6348, E-Mail: tfa8@cdc.gov.

SUPPLEMENTARY INFORMATION: On February 4, 2022 CDC announced a single-source award will support the Sierra Leone (SL) Ministry of Health and Sanitation to implement HIV strategic information and laboratory strengthening activities in SL (87 FR 6550). This award is cancelled in its entirety.

Dated: June 28, 2022.
Terrance Perry,
Chief Grants Management Officer, Centers for Disease Control and Prevention.

[FR Doc. 2022-14141 Filed 6-30-22; 8:45 am]

BILLING CODE 4163-18-P